ADVISORY COUNCIL ON HISTORIC PRESERVATION

Notice of Advisory Council on Historic Preservation Quarterly Business Meeting

AGENCY: Advisory Council on Historic Preservation.

ACTION: Notice of Advisory Council on Historic Preservation Quarterly Business Meeting.

SUMMARY: Notice is hereby given that the Advisory Council on Historic Preservation (ACHP) will hold its next quarterly meeting on Wednesday, November 4, 2015. The meeting will be held in Room SR325 at the Russell Senate Office Building at Constitution and Delaware Avenues NE., Washington, DC, starting at 9:00 a.m.

DATES: The quarterly meeting will take place on Wednesday, November 4, 2015, starting at 9:00 a.m.

ADDRESSES: The meeting will be held in Room SR325 at the Russell Senate Office Building at Constitution and Delaware Avenues NE., Washington, DC.

FOR FURTHER INFORMATION CONTACT: Cindy Bienvenue, 202-517-0202, cbienvenue@achp.gov.

SUPPLEMENTARY INFORMATION: The Advisory Council on Historic Preservation (ACHP) is an independent federal agency that promotes the preservation, enhancement, and sustainable use of our nation's diverse historic resources, and advises the President and the Congress on national historic preservation policy. The goal of the National Historic Preservation Act (NHPA), which established the ACHP in 1966, is to have federal agencies act as responsible stewards of our nation's resources when their actions affect historic properties. The ACHP is the only entity with the legal responsibility to encourage federal agencies to factor historic preservation into federal project requirements. For more information on the ACHP, please visit our Web site at www.achp.gov.

The agenda for the upcoming quarterly meeting of the ACHP is the following:

Call to Order—9:00 a.m.

I. Chairman's Welcome.

II. Historic Preservation Policy and Programs.

A. Building a More Inclusive Preservation Program.

1. American Latino Heritage Initiative.

2. ACHP Youth Initiatives.

B. Preservation 50 and the ACHP Public Policy Initiative.

C. Policy Statement for Resilient Communities.

D. White House Council on Climate Preparedness and Resilience.

E. Historic Preservation Legislation in the 114th Congress.

1. Veterans Administration Enhanced Use Leasing.

2. National Park Service Centennial.

3. Surface Transportation Legislation.

III. Section 106 Issues.

A. Section 3 Report Recommendations Implementation.

B. Federal Agency Support for SHPOs and THPOs.

IV. ACHP Native American Affairs Committee Activities.

V. New Business.

VI. Adjourn.

The meetings of the ACHP are open to the public. If you need special accommodations due to a disability, please contact Cindy Bienvenue, 202-517-0202 or cbienvenue@achp.gov, at least seven (7) days prior to the meeting.

Authority: 54 U.S.C. 304102.

Dated: October 14, 2015.
Javier E. Marques,
Associate General Counsel.

[FR Doc. 2015-26490 Filed 10-16-15; 8:45 am]

BILLING CODE 4310-K6-P